DEPARTMENT OF HOMELAND SECURITY

Federal Emergency Management Agency

[Docket ID FEMA-2013-0002]

Changes in Flood Hazard Determinations

AGENCY: Federal Emergency Management Agency, DHS.

ACTION: Final notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Louisiana: Ascension (FEMA Docket No.: B-1305) | Unincorporated areas of Ascension Parish (12-06-1883P) | The Honorable Tommy Martinez, President, Ascension Parish, 208 East Railroad Avenue, Gonzales, LA 70737 | Ascension Parish President's Office, 208 East Railroad Avenue, Gonzales, LA 70737 | May 3, 2013 | 220013
New Mexico: Santa Fe (FEMA Docket No.: B-1302) | City of Santa Fe (12-06-1488P) | The Honorable David Coss, Mayor, City of Santa Fe, 200 Lincoln Avenue, Santa Fe, NM 87501 | 200 Lincoln Avenue, Santa Fe, NM 87501 | May 23, 2013 | 350070
Oklahoma:
Comanche (FEMA Docket No.: B-1313) | City of Lawton (11-06-3317P) | The Honorable Fred L. Fitch, Mayor, City of Lawton, 212 Southwest 9th Street, Lawton, OK 73501 | City Hall, 212 Southwest 9th Street, Lawton, OK 73501 | May 30, 2013 | 400049
Tulsa (FEMA Docket No.: B-1302) | City of Tulsa (12-06-1019P) | The Honorable Dewey F. Bartlett, Jr., Mayor, City of Tulsa, 175 East 2nd Street, Suite 690, Tulsa, OK 74103 | Stormwater Design Office, 2317 South Jackson, Suite 302, Tulsa, OK 74107 | May 28, 2013 | 405381
Pennsylvania: Montgomery (FEMA Docket No.: B-1305) | Township of Lower Moreland (13-03-0174X) | The Honorable Robert P. DeMartinis, President, Township of Lower Moreland Board of Commissioners, 640 Red Lion Road, Huntingdon Valley, PA 19006 | Lower Moreland Municipal Building, 640 Red Lion Road, Huntingdon Valley, PA 19006 | May 13, 2013 | 420702
Texas:
Bexar (FEMA Docket No.: B-1305) | City of San Antonio (11-06-2654P) | The Honorable Julian Castro, Mayor, City of San Antonio, 100 Military Plaza, San Antonio, TX 78205 | Municipal Plaza, 114 West Commerce Street, 7th Floor, San Antonio, TX 78205 | May 13, 2013 | 480045
Bexar (FEMA Docket No.: B-1305) | City of San Antonio (12-06-3820P) | The Honorable Julian Castro, Mayor, City of San Antonio, 100 Military Plaza, San Antonio, TX 78205 | Municipal Plaza, 114 West Commerce Street, 7th Floor, San Antonio, TX 78205 | May 13, 2013 | 480045
Bexar (FEMA Docket No.: B-1302) | City of San Antonio (12-06-2711P) | The Honorable Julian Castro, Mayor, City of San Antonio, 100 Military Plaza, San Antonio, TX 78205 | Municipal Plaza, 114 West Commerce Street, 7th Floor, San Antonio, TX 78205 | May 16, 2013 | 480045
Bexar (FEMA Docket No.: B-1305) | Unincorporated areas of Bexar County (13-06-0093P) | The Honorable Nelson W. Wolff, Bexar County Judge, Paul Elizondo Tower, 101 West Nueva Street, 10th Floor, San Antonio, TX 78205 | Bexar County Department of Public Works, 233 North Pecos-La Trinidad, Suite 420, San Antonio, TX 78207 | May 13, 2013 | 480035
Bexar (FEMA Docket No.: B-1302) | Unincorporated areas of Bexar County (12-06-1791P) | The Honorable Nelson W. Wolff, Bexar County Judge, Paul Elizondo Tower, 101 West Nueva Street, 10th Floor, San Antonio, TX 78205 | Bexar County Department of Public Works, 233 North Pecos-La Trinidad, Suite 420, San Antonio, TX 78207 | May 28, 2013 | 480035
Bexar, Comal and Kendall (FEMA Docket No.: B-1313) | City of Fair Oaks Ranch (11-06-4481P) | The Honorable Cheryl Landman, Mayor, City of Fair Oaks Ranch, 7286 Dietz Elkhorn Road, Fair Oaks Ranch, TX 78015 | City Hall, 7286 Dietz Elkhorn Road, Fair Oaks Ranch, TX 78015 | May 28, 2013 | 481644
Collin (FEMA Docket No.: B-1313) | City of Allen (12-06-2183P) | The Honorable Stephen Terrell, Mayor, City of Allen, 305 Century Parkway, 1st Floor, Allen, TX 75013 | City Hall, 305 Century Parkway, Allen, TX 75013 | May 31, 2013 | 480131
Collin (FEMA Docket No.: B-1313) | City of Parker (12-06-2183P) | The Honorable Z. Marshall, Mayor, City of Parker, 5700 East Parker Road, Parker, TX 75002 | City Hall, 5700 East Parker Road, Parker, TX 75002 | May 31, 2013 | 480139
Collin (FEMA Docket No.: B-1313) | City of Plano (12-06-2183P) | The Honorable Phil Dyer, Mayor, City of Plano, 1520 Avenue K, Plano, TX 75074 | City Hall, 1520 Avenue K, Plano, TX 75074 | May 31, 2013 | 480140
Denton (FEMA Docket No.: B-1302) | Town of Trophy Club (12-06-3169P) | The Honorable Connie White, Mayor, Town of Trophy Club, 100 Municipal Drive, Trophy Club, TX 76262 | 100 Municipal Drive, Trophy Club, TX 76262 | May 6, 2013 | 481606
Fort Bend (FEMA Docket No.: B-1313) | City of Sugar Land (12-06-3366P) | The Honorable James A. Thompson, Mayor, City of Sugar Land, P.O. Box 110, Sugar Land, TX 77487 | Engineering Department, 2700 Town Center Boulevard, Sugar Land, TX 77479 | June 6, 2013 | 480234
Fort Bend (FEMA Docket No.: B-1313) | Unincorporated areas of Fort Bend County (12-06-3366P) | The Honorable Robert Hebert, Fort Bend County Judge, 301 Jackson Street, Suite 719, Richmond, TX 77469 | Fort Bend County Engineering Department, 1124 Blume Road, Rosenburg, TX 77471 | June 6, 2013 | 480228
Harris (FEMA Docket No.: B-1305) | City of Pasadena (12-06-3062P) | The Honorable Johnny Isbell, Mayor, City of Pasadena, 1211 Southmore Avenue, Pasadena, TX 77502 | Public Library, 1201 Jeff Ginn Memorial Drive, Pasadena, TX 77502 | March 1, 2013 | 480307
Harris (FEMA Docket No.: B-1302) | Unincorporated areas of Harris County (13-06-0262P) | The Honorable Ed M. Emmett, Harris County Judge, 1001 Preston Street, Suite 911, Houston, TX 77002 | Harris County, 10555 Northwest Freeway, Houston, TX 77092 | May 20, 2013 | 480287
Hays (FEMA Docket No.: B-1313) | City of San Marcos (12-06-2514P) | The Honorable Daniel Guerrero, Mayor, City of San Marcos, 630 East Hopkins Street, San Marcos, TX 78666 | Engineering Department, 630 East Hopkins Street, San Marcos, TX 78666 | May 28, 2013 | 485505
Hays (FEMA Docket No.: B-1313) | Unincorporated areas of Hays County (12-06-2514P) | The Honorable Bert Cobb, M.D., Hays County Judge, 111 East San Antonio Street, Suite 300, San Marcos, TX 78666 | Hays County, Development Services Department, 2171 Yarrington Road, San Marcos, TX 78667 | May 28, 2013 | 480321
Montgomery (FEMA Docket No.: B-1313) | Unincorporated areas of Montgomery County (12-06-1995P) | The Honorable Alan B. Sadler, Montgomery County Judge, 501 North Thompson Street, Suite 401, Conroe, TX 77301 | Montgomery County Permit Office, 301 North Thompson Street, Suite 208, Conroe, TX 77301 | June 6, 2013 | 480483
Tarrant (FEMA Docket No.: B-1305) | City of Fort Worth (12-06-1018P) | The Honorable Betsy Price, Mayor, City of Fort Worth, 1000 Throckmorton Street, Fort Worth, TX 76102 | Department of Transportation and Public Works, 1000 Throckmorton Street, Fort Worth, TX 76102 | May 3, 2013 | 480596
Tarrant (FEMA Docket No.: B-1302) | City of Fort Worth (12-06-3303P) | The Honorable Betsy Price, Mayor, City of Fort Worth, 1000 Throckmorton Street, Fort Worth, TX 76102 | Department of Transportation and Public Works, 1000 Throckmorton Street, Fort Worth, TX 76102 | May 20, 2013 | 480596
Williamson (FEMA Docket No.: B-1305) | City of Cedar Park (11-06-0027P) | The Honorable Bob Lemon, Mayor, City of Cedar Park, 600 North Bell Boulevard, Cedar Park, TX 78613 | Planning and Zoning Office, 600 North Bell Boulevard, Cedar Park, TX 78613 | May 3, 2013 | 481282
Williamson (FEMA Docket No.: B-1305) | City of Leander (11-06-0027P) | The Honorable Chris Fielder, Mayor, City of Leander, 200 West Willis Street, Leander, TX 78641 | City Hall, 200 West Willis Street, Leander, TX 78641 | May 3, 2013 | 481536
Williamson (FEMA Docket No.: B-1305) | Unincorporated areas of Williamson County (11-06-0027P) | The Honorable Dan. A Gattis, Williamson County Judge, 710 Main Street, Suite 101, Georgetown, TX 78626 | Williamson County Courthouse, 710 Main Street, Georgetown, TX 78626 | May 3, 2013 | 481079
Virginia: Fauquier (FEMA Docket No.: B-1316) | Town of Warrenton (13-03-0051P) | The Honorable George B. Fitch, Mayor, Town of Warrenton, P.O. Drawer 341, Warrenton, VA 20188 | Town Hall, 18 Court Street, Warrenton, VA 20186 | May 2, 2013 | 510057
Wisconsin: Waukesha (FEMA Docket No.: B-1302) | City of New Berlin (12-05-4601P) | The Honorable Jack Chiovatero, Mayor, City of New Berlin, 3805 South Casper Drive, New Berlin, WI 53151 | City Hall, 3805 South Casper Drive, New Berlin, WI 53151 | May 10, 2013 | 550487

(Catalog of Federal Domestic Assistance No. 97.022, “Flood Insurance.”)

Dated: July 12, 2013.
Roy E. Wright,
Deputy Associate Administrator for Mitigation, Department of Homeland Security, Federal Emergency Management Agency.

[FR Doc. 2013-18255 Filed 7-29-13; 8:45 am]

BILLING CODE 9110-12-P